DEPARTMENT OF COMMERCE

National Institute of Standards and Technology

Visiting Committee on Advanced Technology

AGENCY: National Institute of Standards and Technology, Department of Commerce.

ACTION: Notice of Public Meeting.

SUPPLEMENTARY INFORMATION: The Visiting Committee on Advanced Technology (VCAT or Committee), National Institute of Standards and Technology (NIST), will meet in open session on Tuesday, October 7, 2014, from 12:00 p.m. to 6:30 p.m. Mountain Time and Wednesday, October 8, 2014, from 8:30 a.m. to 12:30 p.m. Mountain Time. The VCAT is composed of fifteen members appointed by the NIST Director who are eminent in such fields as business, research, new product development, engineering, labor, education, management consulting, environment, and international relations.

DATES: The VCAT will meet on Tuesday, October 7, 2014, from 12:00 p.m. to 6:30 p.m. Mountain Time and Wednesday, October 8, 2014, from 8:30 a.m. to 12:30 p.m. Mountain Time.

ADDRESSES: The meeting will be held in Building 81, Room 1A116, at the National Institute of Standards and Technology, Boulder, Colorado, 80305-3328. Please note admittance instructions under the SUPPLEMENTARY INFORMATION section of this notice.

FOR FURTHER INFORMATION CONTACT: Stephanie Shaw, NIST, 100 Bureau Drive, Gaithersburg, Maryland 20899-1060, telephone number 301-975-2667. Ms. Shaw's email address is stephanie.shaw@nist.gov.

SUPPLEMENTARY INFORMATION:

Authority: 15 U.S.C. 278 and the Federal Advisory Committee Act, as amended, 5 U.S.C. App.

The purpose of this meeting is to review and make recommendations regarding general policy for NIST, its organization, its budget, and its programs within the framework of applicable national policies as set forth by the President and the Congress. The agenda will include an update on NIST followed by presentations reviewing safety trends at NIST, continued discussions around NIST's disaster resilience efforts, and presentations on NIST's recruitment and retention of scientific and technical staff. The meeting also will include discussions of NIST's approach to advanced communications research. The agenda may change to accommodate Committee business. The final agenda will be posted on the NIST Web site at http://www.nist.gov/director/vcat/agenda.cfm.

Individuals and representatives of organizations who would like to offer comments and suggestions related to the Committee's affairs are invited to request a place on the agenda. On Wednesday, October 8, approximately one-half hour will be reserved in the afternoon for public comments, and speaking times will be assigned on a first-come, first-serve basis. The amount of time per speaker will be determined by the number of requests received, but is likely to be about 3 minutes each. The exact time for public comments will be included in the final agenda that will be posted on the NIST Web site at http://www.nist.gov/director/vcat/agenda.cfm. Questions from the public will not be considered during this period. Speakers who wish to expand upon their oral statements, those who had wished to speak, but could not be accommodated on the agenda, and those who were unable to attend in person are invited to submit written statements to VCAT, NIST, 100 Bureau Drive, MS 1060, Gaithersburg, Maryland, 20899, via fax at 301-216-0529 or electronically by email to Karen.lellock@nist.gov.

All visitors to the NIST site are required to pre-register to be admitted. Please submit your name, time of arrival, email address and phone number to Stephanie Shaw by 5:00 p.m. Eastern Time, Monday, September 29, 2014. Non-U.S. citizens must submit additional information; please contact Ms. Shaw. Ms. Shaw's email address is stephanie.shaw@nist.gov and her phone number is 301-975-2667. Also, please note that under the REAL ID Act of 2005 (Pub. L. 109-13), federal agencies, including NIST, can only accept a state-issued driver's license or identification card for access to federal facilities if issued by states that are REAL ID compliant or have an extension. NIST also currently accepts other forms of federal-issued identification in lieu of a state-issued driver's license. For detailed information please contact Ms. Shaw or visit: http://nist.gov/public_affairs/visitor/

Dated: September 8, 2014.
Willie E. May,
Associate Director for Laboratory Programs.

[FR Doc. 2014-22050 Filed 9-15-14; 8:45 am]

BILLING CODE 3510-13-P